DEPARTMENT OF TRANSPORTATION

Federal Aviation Administration

Approval of Noise Compatibility Program Piedmont Triad International Airport, Greensboro, NC

AGENCY: Federal Aviation Administration, DOT.

ACTION: Notice.

SUMMARY: The Federal Aviation Administration (FAA) announces its findings on the Noise Compatibility Program submitted by the Piedmont Triad Airport Authority (PTAA) under the provisions of 49 U.S.C. (the Aviation Safety and Noise Abatement Act, hereinafter referred to as “the Act”) and 14 CFR part 150. These findings are made in recognition of the description of Federal and nonfederal responsibilities in Senate Report No. 96-52 (1980). On June 10, 2008, the FAA determined that the noise exposure maps submitted by the Piedmont Triad Airport Authority (PTAA) under Part 150 were in compliance with applicable requirements. On November 7, 2008, the FAA approved the Piedmont Triad International Airport noise compatibility program. All of the recommendations of the program were approved.

DATES: Effective Date: The effective date of the FAA's approval of the Piedmont Triad International Airport Noise Compatibility Program is November 7, 2008.

FOR FURTHER INFORMATION CONTACT: Dana Perkins, Federal Aviation Administration, Atlanta Airports District Office, 1701 Columbia Avenue, College Park, Georgia 30337-2747, phone number: (404) 305-7152. Documents reflecting this FAA action may be reviewed at this same location.

SUPPLEMENTARY INFORMATION: This notice announces that the FAA has given its overall approval to the Noise Compatibility Program for Piedmont Triad International Airport, effective November 7, 2008.

Under Section 47504 of the Act, an airport operator who has previously submitted a Noise Exposure Map may submit to the FAA a Noise Compatibility Program which sets forth the measures taken or proposed by the airport operator for the reduction of existing noncompatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal Program. The FAA does not substitute its judgment for that of the airport operator with respect to which measure should be recommended for action.

The FAA's approval or disapproval of FAR Part 150 program recommendations is measured according to the standards expressed in FAR Part 150 and the Act, and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in FAR Part 150, Section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in College Park, Georgia.

Piedmont Triad International Airport submitted to the FAA on May 7, 2008 the Noise Exposure Maps, descriptions, and other documentation produced during the noise compatibility planning study conducted from March 2003, through April 2008. The Piedmont Triad International Airport Noise Exposure Maps were determined by FAA to be in compliance with applicable requirements on June 10, 2008. Notice of this determination was published in the Federal Register on June 10, 2008.

The Piedmont Triad International Airport study contains a proposed Noise Compatibility Program comprised of actions designed for phased implementation by airport management and adjacent jurisdictions from 2008 to 2014 and beyond, as applicable. It was requested that FAA evaluate and approve this material as a Noise Compatibility Program as described in Section 47504 of the Act. The FAA began its review of theProgram on June 10, 2008 and was required by a provision of the Act to approve or disapprove the program within 180-days (other than the use of new or modified flight procedures for noise control). Failure to approve or disapprove such program within the 180-day period shall be deemed to be an approval of such program.

The submitted program contained 20 proposed actions for noise mitigation on and off the airport. The FAA completed its review and determined that the procedural and substantive requirements of the Act and FAR Part 150 have been satisfied. The overall program, therefore, was approved by the FAA effective November 7, 2008.

Outright approval, with clarification in some cases, was granted for all of the specific program elements. The 20 measures proposed and approved follow: NA1—Evaluate Noise barriers at Sites of Future Airport Facilities; NA-2—Preferred Night Runway Use; NA-3—Night Runway Use Assignments; NA-4—Night Southbound Departure Corridor from Runway 23L; NA-5—Night Departure Procedures from Runway 23R; NA-6—Night Northbound Departure Corridor form Runway 23L; NA-8—Departures from Runway 5L; NA-9—Departures from Runway 5R; NA-10—Restrictions on Use of Auxiliary Power Units (APUs); NA-11—Noise Abatement Departure Profiles; NA-12—Noise Abatement Approach Procedures; NA-13—Altitude for Downwind Legs; LU-1 Acquire Noise-Sensitive Properties where DNL Exceeds 70 dB; LU-2—Sound Insulation for Noise-Sensitive Structures where DNL Exceeds 65 dB; LU-3—Optional Acquisition of Avigation Easements for Noise Sensitive Structures where DNL Exceeds 65dB; LU-4—Other Assistance for Owners of Residential Property where DNL exceeds 65 dB; LU-5—Pursue Compatible Use Zoning where DNL Exceeds 65 dB; NM-i—Establish a Noise Monitoring Function at PTIA; NM-2—Publish DNL Contours for DNL 60 and Above; and NM-3 Install and Operate an Aircraft Noise and Operations Monitoring System.

Operational Measure NA-1 and Land Use Measure LU-4 were approved for study only because the benefits of implementation, as required by Part 150, cannot be determined until study and/or analysis is complete. Operational Measures NA-2, NA-3, NA-4, NA-5, NA-6, NA-8, NA-9, NA-11, NA-12, and NA-13 are approved as voluntary measures because their implementation is subject to traffic, weather, and airspace safety and efficiency. Additionally, while approved, clarification was added to the approval statements for several Land Use Measures.

These determinations are set forth in detail in a Record of Approval signed by the FAA on November 7, 2008. The Record of Approval, as well as other evaluation materials and the documents comprising the submittal, are available for review at the FAA office listed above and at the administrative office of the Piedmont Triad Airport Authority (PTAA). The Record of Approval also will be available on-line at: http://www.faa.gov/airports airtraffic/airports/environmental/airport noise/part 150/states/.

Issued in College Park, Georgia on November 8, 2008.
Scott L. Seritt,
Manager, Atlanta Airports District Office.

[FR Doc. E8-27546 Filed 11-20-08; 8:45 am]

BILLING CODE 4910-13-M